DEPARTMENT OF COMMERCE

Census Bureau

Agency Information Collection Activities; Submission to the Office of Management and Budget (OMB) for Review and Approval; Comment Request; Form BC-170, U.S. Census Employment Application and Form BC-171, Additional Applicant Information

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 16, 2021 during a 60-day comment period. This notice allows for an additional 30 days for public comments.

Agency: U.S. Census Bureau, Department of Commerce.

Title: Form BC-170, U.S. Census Employment Application and Form BC-171, Additional Applicant Information.

OMB Control Number: 0607-0139.

Form Number(s): Form BC-170 and BC-171.

Type of Request: Regular submission, Request for Extension Without Change.

Number of Respondents: 30,000 annually for a total of 90,000 over the three year period.

Average Hours per Response: 20 minutes.

Burden Hours: 10,000 annually for a total of 30,000 over the three year period.

Needs and Uses: The BC-170 is an integral part of the application process for persons interested in applying for Census field positions. Administrative staff review the information provided on this form to determine eligibility for our field jobs. Hiring officials use the form to evaluate applicants in order to select the best possible candidates for these positions.

While the BC-171 is a voluntary form which collects information not used to make selection decisions, it serves to allow the Census Bureau to comply with Federal directives, described in Section 11 of this document, Justification for Sensitive Questions, and to evaluate its recruiting sources. The Education and Recruiting Sources information gathered on the BC-171 will assist the Census Bureau in determining if recruiting advertisements and tactics are working to produce qualified applicants and determine if persons at all education levels are attracted to the positions available.

Affected Public: Individuals interested in applying for Census field positions.

Frequency: Applicants will only be required to use these forms one time unless, after two years, they have not been selected for a position and wish to reapply.

Respondent's Obligation: Voluntary.

Legal Authority: This collection is authorized by Title 13, United States Code, Section 23 a and c.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0139.

Sheleen Dumas,
Department PRA Clearance Officer, Office of the Chief Information Officer, Commerce Department.

[FR Doc. 2021-15909 Filed 7-26-21; 8:45 am]

BILLING CODE 3510-07-P